DEPARTMENT OF COMMERCE

International Trade Administration

[A-791-809]

Notice of Extension of Time Limit for Preliminary Results of Administrative Antidumping Review: Certain Hot-Rolled Carbon Steel Flat Products from South Africa

AGENCY: Import Administration, International Trade Administration, Department of Commerce.

SUMMARY: The Department of Commerce (the Department) is conducting an administrative review of the antidumping duty order on certain hot-rolled carbon steel flat products from South Africa in response to requests by petitioners Bethlehem Steel Corporation, National Steel Corporation, United States Steel Corporation, and Nucor Corporation. The review covers shipments of this merchandise to the United States for the period May 3, 2001 through August 31, 2002, by Iscor Ltd. and Saldanha Steel Ltd. (together, Iscor/Saldanha¹), and Highveld Steel & Vanadium Corp. Ltd. (Highveld). For the reasons discussed below, we are extending the preliminary results of this administrative review by 30 days, to no later than July 2, 2003.

¹ In the final results of the antidumping duty investigation, the Department determined that Iscor and Saldanha were affiliated, and should be treated as a single entity for purposes of the investigation. See Notice of Final Determination of Sales at Less Than Fair Value and Antidumping Duty Order: Certain Hot-Rolled Carbon Steel Flat Products from South Africa, 66 FR 48242 (Sept. 19, 2001) (LTFV investigation). This was based on information on the public record of the contemporaneous countervailing duty investigation of hot-rolled products from South Africa that 1) Iscor is a 50 percent shareholder in Saldanha, and is in a position to exercise control of Saldanha's assets, and 2) both companies produce the subject merchandise. In this review, the Department requested that, if the circumstances had not changed, the two parties file a combined response. The notice of appearance was filed for Iscor, including its subsidiary Saldanha.

EFFECTIVE DATE: June 9, 2003.

FOR FURTHER INFORMATION CONTACT: Elfi Blum or Scot Fullerton at (202) 482-0197 or (202) 482-1386, respectively; Office of Antidumping/Countervailing Duty Enforcement VII, Import Administration, International Trade Administration, U.S. Department of Commerce, 14th Street and Constitution Avenue, NW, Washington, D.C. 20230.

SUPPLEMENTARY INFORMATION:

Background

On September 19, 2001, the Department of Commerce published in the Federal Register the antidumping duty order on certain hot-rolled carbon steel flat products from South Africa (66 FR 48242). On September 30, 2002, in accordance with Section 751(a) of the Tariff Act of 1930, as amended (the Act) and section 19 CFR 351.213(b) of the regulations, petitioners Bethlehem Steel Corporation, National Steel Corporation, and United States Steel Corporation requested a review of the antidumping duty order on certain hot-rolled carbon steel flat products from South Africa. On September 30, 2002, petitioner Nucor Corporation also requested a review of this antidumping duty order. On October 24, 2002, we published a notice of “Initiation of Antidumping Review.” See 67 FR 65336. On December 30, 2002, Iscor/Saldanha informed the Department it was unable to respond to the Department's questionnaire. On January 21, 2003, Highveld informed the Department that it was withdrawing its participation in the administrative review.

On February 19, 2003, petitioners Bethlehem Steel Corporation, National Steel Corporation, and United States Steel Corporation submitted factual information and arguments for determining a new total facts available margin for respondents. On March 26, 2003, Highveld submitted comments contesting petitioners' methodology for updating Highveld's facts available margin. On May 20, 2003, Iscor/Saldanha also submitted comments contesting petitioners' methodology for updating the facts available margin.

Extension of Time Limits for Preliminary Results

Pursuant to section 751(a)(3)(A) of the Act and section 351.213(h)(2) of the Department's regulations, the Department may extend the deadline for completion of the preliminary results of a review if it determines that it is not practicable to complete the preliminary results within the statutory time limit of 245 days from the last day of the anniversary month of the order for which the administrative review was requested. Because of the complexity and timing of certain issues in this case, it is not practicable to complete this review within the time limit mandated by section 751(a)(3)(A) of the Act. The Department requires additional time to evaluate information submitted by petitioners regarding the determination of facts available.

Therefore, in accordance with section 751(a)(3)(A) of the Act and section 351.213(h)(2) of the Department's regulations, the Department is extending the time limits for the preliminary results by 30 days, to no later than July 2, 2003.

Dated: June 2, 2003.
Barbara E. Tillman,
Acting Deputy Assistant Secretary for Import Administration, Group III.

[FR Doc. 03-14443 Filed 6-6-02; 8:45 am]

BILLING CODE 3510-DS-S